Title 3—

The President

Proclamation 9144 of June 20, 2014

70th Anniversary of the GI Bill of Rights

By the President of the United States of America

A Proclamation

In the Second World War, a generation risked their lives for people they had never met and ideals none of us could live without. As they fought to liberate a continent and safeguard the American way of life, our Nation resolved to serve them as well as they were serving us. After months of heated debate and hard-fought compromise, President Franklin D. Roosevelt signed the Servicemen's Readjustment Act of 1944, better known as the GI Bill of Rights.

When patriots who had left our shores as barely more than boys returned as heroes, the GI Bill allowed them to launch their civilian lives. It provided unemployment benefits, home loan guaranties, and subsidies for a college education. This bill marked the first time higher education was available to large cross-sections of the American people. Because veterans took advantage of this unprecedented opportunity, our Nation developed the most talented workforce in history. Millions excelled in their careers, started families, bought new homes, or even started new businesses, helping to build the greatest middle class the world has ever known.

The GI Bill proved that America prospers when we put a good education within the reach of those willing to work for it. Under the Post-9/11 GI Bill, our Nation has extended this chance to a new generation. This law has helped more than a million veterans, service members, and military families pursue a college education. And across our country, employers can tap into a vast pool of talent—men and women who are not only highly educated but have also served with honor in the most dangerous corners of the earth.

Today, let us celebrate 70 years of opportunity. Let us remember our sacred debt to our veterans and recall that when we give them the chance to excel, there is no limit to what they might accomplish.

NOW, THEREFORE, I, BARACK OBAMA, President of the United States of America, by virtue of the authority vested in me by the Constitution and the laws of the United States, do hereby proclaim June 22, 2014, as the 70th Anniversary of the GI Bill of Rights. I call upon all Americans to observe this day with appropriate programs, ceremonies, and activities.

IN WITNESS WHEREOF, I have hereunto set my hand this twentieth day of June, in the year of our Lord two thousand fourteen, and of the Independence of the United States of America the two hundred and thirty-eighth.

[FR Doc. 2014-15039

Filed 6-24-14; 11:15 am]

Billing code 3295-F4